DEPARTMENT OF VETERANS AFFAIRS

[OMB Control No. 2900-0606]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before June 23, 2005.

FOR FURTHER INFORMATION CONTACT: Denise McLamb, Records Management Service (005E3), Department of Veterans Affairs, 810 Vermont Avenue, NW., Washington, DC 20420, (202) 273-8030, FAX (202) 273-5981 or e-mail to: denise.mclamb@mail.va.gov. Please refer to “OMB Control No. 2900-0606.”

Send comments and recommendations concerning any aspect of the information collection to VA's OMB Desk Officer, OMB Human Resources and Housing Branch, New Executive Office Building, Room 10235, Washington, DC 20503, (202) 395-7316. Please refer to “OMB Control No. 2900-0606” in any correspondence.

SUPPLEMENTARY INFORMATION: Title: Regulation for Submission of Evidence—Title 38 CFR 17.1C1 (a) (2).

OMB Control Number: 2900-0606.

Type of Review: Extension of a currently approved collection.

Abstract: The regulation authorizes VA to bill “reasonable charges” instead of “reasonable cost” for medical care or services provided or furnished to a veteran for a non-service connected disability. Under the provisions of 38 CFR 17.101(a)(4), a third party payer that is liable for reimbursing VA for care and services VA provided to a veteran with non-service-connected conditions continues to have the option of paying either the billed charges or the amount the health plan demonstrates it would pay to providers other than entities of the United States for the same care or services in the same geographic area. If the amount submitted for payment is less than the amount billed, VA will accept the submission as payment, subject to verification at VA's discretion. VA may request the third-party payer to submit evidence or information to substantiate the appropriateness of the payment amount (e.g., health plan policies, provider agreements, medical evidence, and proof of payment to other providers demonstrating the amount paid for the same care and services VA provided). VA uses the information to determine whether the third-party payer has met the test of properly demonstrating its equivalent private sector provider payment amount for the same care or services and within the same geographic area as provided by VA.

An agency may not conduct or sponsor, and a person is not required to respond to a collection of information unless it displays a currently valid OMB control number. The Federal Register notice with a 60-day comment period soliciting comments on this collection of information was published on January 11, 2005, at pages 1934-1935.

Affected Public: Business or other for-profit, Individuals or households, not for profit institutions, farms, Federal government, and State, local or tribal government.

Estimated Total Annual Burden: 800 hours.

Estimated Average Burden Per Respondent: 2 hours.

Frequency of Response: On occasion.

Estimated Number of Respondents: 400.

Dated: May 10, 2005.
By direction of the Secretary.
Cindy Stewart,
Program Analyst, Records Management Service.

[FR Doc. E5-2590 Filed 5-23-05; 8:45 am]

BILLING CODE 8320-01-P